DEPARTMENT OF TRANSPORTATION

Federal Aviation Administration

Proposed Advisory Circular 120-XX, Damage Tolerance Inspections for Repairs

AGENCY: Federal Aviation Administration (FAA), DOT.

ACTION: Notice of availability of proposed Advisory Circular (AC) 120-XX; reopening of comment period.

SUMMARY: This action reopens the comment period stated in the Notice of Availability of proposed Advisory Circular (AC) 120-XX, “Damage Tolerance Inspections for Repairs,” that was published on April 21, 2006. In that document, the FAA announced the availability and request for comments on a proposed AC, which set forth an acceptable means, but not the only means, of demonstrating compliance with the provisions of the airworthiness standards for transport category airplanes related to damage tolerance inspections for repairs. In addition, this action announces that at a future date, the FAA may revise the current proposed AC 120-XX to add guidance for damage tolerance inspections for alterations.

DATES: Comments must be received by September 18, 2006.

ADDRESSES: Send all comments on this proposed AC to: Federal Aviation Administration, Attention: Greg Schneider, Airframe/Cabin Safety Branch, ANM-115, FAA, Transport Airplane Directorate, Aircraft Certification Service, 1601 Lind Avenue, SW., Renton, WA 98055-4056. Comments may be inspected at the above address between 7:30 a.m. and 4 p.m. weekdays, except Federal holidays.

FOR FURTHER INFORMATION CONTACT: Kenna Sinclair, Transport Standards Staff, at the address above, telephone (425) 227-1556.

SUPPLEMENTARY INFORMATION:

Comments Invited

Interested persons are invited to comment on the proposed AC by sending such written data, views, or arguments, as they may desire. Commenters should identify AC 120-XX and send comments, in duplicate, to the address specified above. All communications received on or before the closing date for comments will be considered by the Transport Standards Staff before issuing the final AC. The proposed AC can be found and downloaded from the Internet at http://www.faa.gov/aircraft/draft_docs. A paper copy of the proposed AC may be obtained by contacting the person named above under the caption FOR FURTHER INFORMATION CONTACT.

Background

On April 21, 2006, the Federal Aviation Administration (FAA) issued a Notice of Availability of proposed Advisory Circular (AC) 120-XX, “Damage Tolerance Inspections for Repairs.” ¹ Comments to that document were to be received by June 20, 2006.

¹ 71 FR 20750.

By letters dated May 26 and 30, and June 6, 9, and 12, the Air Transport Association of America, Inc. (ATA), Airbus, the Cargo Airline Association (CAA), Boeing Commercial Airplanes, and National Air Carrier Association, Inc. (NACA), respectively, asked the FAA to extend the comment period for the proposed AC. This AC supports the proposed rule entitled “Damage Tolerance Data for Repairs and Alterations,” which we published on April 21, 2006.² Each petitioner requested a 60-day extension, except Boeing Commercial Airplanes asked for a 90-day extension. Many of the petitioners said the proposed AC and its related proposed rule, as well as other Aging Aircraft proposals and guidance material, present complex issues that would take time to review together.

² 71 FR 20574.

We appreciate the petitioners' substantive interest in the proposed AC and believe that granting additional time to review the document will allow them to thoroughly assess the impact of this AC and provide meaningful comments. Therefore, we will reopen the comment period until September 18, 2006. This date corresponds to the comment period extension date, approved in a separate Federal Register notice, for the associated proposed rule, “Damage Tolerance Data for Repairs and Alterations.” The extension of comment period notice for the proposed rule will be published concurrently with today's notice. We believe that extending the comment period for the proposed AC to September 18, 2006 to coincide with that of the proposed rule will allow the petitioners enough time to do a complete review of both the AC and its associated proposed rule.

Reopening of Comment Period

For the reasons provided in this notice, the FAA believes that good cause exists for reopening the comment period for proposed AC 120-XX until September 18, 2006. Absent unusual circumstances, the FAA does not anticipate any further extension of the comment period for that proposed AC.

New Aviation Rulemaking Advisory Committee (ARAC) Recommendations

Recently the ARAC informed us that they will shortly complete the development of new recommendations on damage tolerance for alterations. The current version of proposed AC 120-XX only addresses damage tolerance inspections for repairs. Since the new ARAC recommendations may help industry comply with the portion of the “Damage Tolerance Data for Repairs and Alterations” proposal that relates to alterations, we intend to consider including them in a possible future revision of proposed AC 120-XX. If the current proposed AC is revised to include the new recommendations, we will make it available for public comment.

Although the ARAC recommendations will not be open to public comment as part of today's notice, the public may view those recommendations on the FAA's Web site at http://www.faa.gov/regulations_policies/rulemaking/committees/arac/issue_areas/tae/aa/.

We expect to receive the ARAC recommendations in July 2006.

Issued in Washington, DC, June 29, 2006.
John M. Allen,
Acting Director, Flight Standards Service, Aviation Safety.
Dorenda D. Baker,
Acting Director, Aircraft Certification Service, Aviation Safety.

[FR Doc. E6-10599 Filed 7-6-06; 8:45 am]

BILLING CODE 4910-13-P